DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from October 19 to October 23, and on December 30, 2009.

For further information, please contact Edson Beall via: United States Postal Service mail, at the National Register of Historic Places, 2280, National Park Service, 1849 C St., NW., Washington, DC 20240; in person (by appointment), 1201 Eye St., NW., 8th Floor, Washington, DC 20005; by fax, 202-371-2229; by phone, 202-354-2255; or by e-mail, Edson_Beall@nps.gov.

Dated: January 4, 2010.
J. Paul Loether,
Chief, National Register of Historic Places/National Historic Landmarks Program.

KEY: State, County, Property Name, Address/Boundary, City, Vicinity, Reference Number, Action, Date, Multiple Name

AMERICAN SAMOA

Western District

Kirwan, Michael J., Educational Television Center, Route 118, N. side of Utulei, Utulei vicinity, 09000842, LISTED, 10/23/09

ALABAMA

Russell County

Hurtsboro Historic District, 308-905 Church St., 508 Daniel St., 303-407 Dickinson St., 302-802 Goolsby St., 402-502 Lloyd St., 242-282 Long St., Hurtsboro, 09000001, LISTED, 10/19/09

FLORIDA

Hernando County

Spring Lake Community Center, 4184 Spring Lake Hwy., Brooksville vicinity, 09000843, LISTED, 10/20/09 (Florida's New Deal Resources MPS)

FLORIDA

Orange County

Rosemere Historic District, Roughly by E. Harvard St., N. Orange Ave., Cornell Ave. & E. Vanderbilt St., Orlando, 09000844, LISTED, 10/21/09

GEORGIA

Muscogee County

Thomas, Alma, House, 411 21st St., Columbus, 09000270, LISTED, 10/20/09

NEVADA

Clark County

Berkley Square, Area bounded by Byrnes Ave., D St., Leonard Ave., and G St., Las Vegas, 09000846, LISTED, 10/23/09

NEW YORK

Chenango County

Mathewson, Holden B., House, 1567 NY 26, South Otselic, 09000860, LISTED, 10/23/09

NEW YORK

Columbia County

Van Rensselaer, Conyn, House, 644 Spook Rock Rd., Claverack vicinity, 09000861, LISTED, 10/20/09

NEW YORK

Dutchess County

Mt. Beacon Fire Observation Tower, S. Beacon Mtn., Beacon vicinity, 09000862, LISTED, 10/23/09

NEW YORK

Onondaga County

Barber, Peale's, Farm Mastodon Exhumation Site, Rt. 17K, Montgomery vicinity, 09000863, LISTED, 10/20/09

NORTH CAROLINA

Dare County

Midgett, Rasmus, House, 25438 NC Hwy 12, Waves, 09000847, LISTED, 10/21/09

OHIO

Erie County

Feick Building, 158-160 E. Market St., Sandusky, 09000848, LISTED, 10/22/09

OHIO

Geauga County

ASM Headquarters and Geodesic Dome, 9639 Kinsman Rd., Materials Park, 09000849, LISTED, 10/22/09

WEST VIRGINIA

Logan County

Blair Mountain Battlefield, Address Restricted, Logan vicinity, 08000496, REMOVED/DETERMINED ELIGIBLE, 12/30/09

WISCONSIN

Jefferson County

North Washington Street Historic District, N. Church St. generally bounded by O'Connell and N. Green St., N. Washington St. bounded by O'Connell and Elm Sts., Watertown, 09000850, LISTED, 10/23/09

WISCONSIN

Milwaukee County

Pittsburgh Plate Glass Enamel Plant, 201 E. Pittsburgh Ave., Milwaukee, 09000851, LISTED, 10/21/09

[FR Doc. 2010-49 Filed 1-7-10; 8:45 am]

BILLING CODE P